DEPARTMENT OF LABOR

Employment and Training Administration

[TA-W-54,008]

Unifine Dohler America, Monmouth Junction Facility, Monmouth Junction, New Jersey; Notice of Termination of Investigation

Pursuant to section 221 of the Trade Act of 1974, as amended, an investigation was initiated on January 30, 2004 in response to a petition filed by a state official on behalf of workers of Unifine Dohler America, Monmouth Junction facility, Monmouth Junction, New Jersey. The worker at the subject facility was engaged in the distribution of food to airlines.

The petition regarding the investigation has been deemed invalid. In order to establish a valid worker group, there must be at least three full-time workers employed at some point during the period under investigation. Workers of the group subject to this investigation did not meet this threshold level of employment. Consequently, the investigation has been terminated.

Signed at Washington, DC, this 2nd day of February, 2004.
Richard Church,
Certifying Officer, Division of Trade Adjustment Assistance.

[FR Doc. 04-3926 Filed 2-23-04; 8:45 am]

BILLING CODE 4510-30-P